DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative needs of the Bureau of Land Management. The lands we surveyed are:

The plat constituting the entire survey record of the dependent resurvey of a portion of the subdivisional lines, designed to restore the corners in their true original locations according to the best available evidence, and a metes-and-bounds survey of a portion of the Craters of the Moon National Monument in sections 4, 8, 9, 16, 17, 21, 22, 23, and 24, in T. 8 S., R. 27 E., Boise Meridian, Idaho, was accepted November 15, 2002.

The plat representing the supplemental plat was prepared to correct certain erroneously lotted areas, as depicted on the plat, in T. 11 N., R. 17 E., Boise Meridian, Idaho was accepted January 15, 2003.

The plat representing the dependent resurvey and corrective dependent resurvey of portions of the north and east boundaries, and the dependent resurvey of a portion of the subdivisional lines, and the 1907 meanders of the right bank of the Salmon River in sections 1 and 12, and the subdivision of sections 1 and 12, in T. 23 N., R. 21 E., Boise Meridian, Idaho, was accepted January 16, 2003.

The plat constituting the entire survey record of the dependent resurvey of a portion of the west boundary and subdivisional lines, the subdivision of section 7, and a metes-and-bounds survey in section 7, in T. 7 S., R. 6 E., Boise Meridian, Idaho, was accepted January 24, 2003.

The plat representing the dependent resurvey of a portion of the subdivisional lines, the subdivision of section 26, and the metes-and-bounds survey of Parcel A and two easements in section 26, in T. 5 N., R. 1 E., Boise Meridian, Idaho, was accepted February 4, 2003.

The plats constituting the entire survey record of the dependent resurvey of a portion of the south, west, and north boundaries and a portion of the subdivisional lines, designed to restore the corners in their true original locations according to the best available evidence, and a metes-and-bounds survey of a portion of the Craters of the Moon National Monument in sections 6, 7, 17, 18, 19, 20, 29, 32, and 33, in T. 7 S., R. 27 E., Boise Meridian, Idaho, was accepted February 24, 2003.

The plat constituting the entire record of dependent resurvey of portions of the east boundary, and subdivisional lines, designed to restore the corners in their true original locations according to the best available evidence, and a metes-and-bounds survey of a portion of the Craters of the Moon National Monument in sections 12, 13 and 24, in T. 7 S., R. 26 E., Boise Meridian, Idaho, was accepted February 26, 2003.

The plat representing the dependent resurvey of a portion of the east boundary, and a portion of the subdivisional lines, and the subdivision of section 25, in T. 2 N., R. 42 E., Boise Meridian, Idaho, was accepted March 12, 2003.

The plats representing the dependent resurvey of a portion of the south boundary, a portion of the west boundary, and a portion of the subdivisional lines, and the subdivision of sections 19, 31, and 32, the survey of a portion of the 1999-2002 meander lines of the Snake River in sections 19 and 32, the 1999-2002 survey of a partition line in section 32, and a metes-and-bounds survey in section 31, in T. 2 N., R. 43, E., Boise Meridian, Idaho, were accepted March 12, 2003.

These surveys were executed at the request of the Bureau of Indian Affairs to meet certain administrative needs of the Bureau of Land Management. The lands we surveyed are:

The plat representing the dependent resurvey of a portion of the west boundary and subdivision of sections 19, 30, and 31, the corrective dependent resurvey of a portion of the subdivisional lines and subdivision of sections 19 and 31, and the further subdivision of section 30, in T. 3 S., R. 35 E., Boise Meridian, Idaho, was accepted January 29, 2003.

The plats representing the dependent resurvey of a portion of the subdivisional lines, 1892 meanders of the right bank of the Blackfoot River in section 18, the subdivision of sections 8, 9, 17, 18, and 19, and the survey of the 2000-2002 meanders and informative traverse of the Blackfoot River, the north boundary of the Fort Hall Indian Reservation, portions of the 2000-2002 median line of the Blackfoot River, all in sections 8, 9, 17, 18, and 19, partition lines in section 18, and a metes-and-bounds survey of fee land in section 9, in T. 3 S., R. 35 E., Boise Meridian, Idaho, was accepted February 10, 2003.

Dated: April 1, 2003.
Duane E. Olsen,
Chief Cadastral Surveyor for Idaho.

[FR Doc. 03-8489 Filed 4-7-03; 8:45 am]

BILLING CODE 4310-GG-P